ENVIRONMENTAL PROTECTION AGENCY

[FRL-6958-9]

Agency Information Collection Activities: Proposed Collection; Comment Request; State Small Business Stationary Source Technical and Environmental Compliance Assistance Program (SBTCP) Under the Clean Air Act as Amended in 1990

AGENCY: Environmental Protection Agency (EPA).

ACTION: Notice.

SUMMARY: In compliance with the Paperwork Reduction Act (44 U.S.C. 3501 et seq.), this document announces that EPA is planning to submit the following proposed and continuing Information Collection Request (ICR) to the Office of Management and Budget (OMB): State Small Business Stationary Source Technical and Environmental Compliance Assistance Program Annual Reporting Form, ICR Number 1748.02, OMB Control Number 2060-0337, expiration date 09/30/01. Before submitting the ICR to OMB for review and approval, EPA is soliciting comments on specific aspects of the proposed information collection as described below.

DATES: Comments must be submitted on or before May 29, 2001.

ADDRESSES: Small Business Division/Small Business Ombudsman, U.S. Environmental Protection Agency, 1200 Pennsylvania Ave., NW., (MC-1808), Washington, DC 20460; 202-260-0490. Interested persons may receive a copy of the ICR without charge by writing or calling the above address. The ICR is also posted on the Small Business Environmental Assistance homepage at http:/www.smallbiz-enviroweb.org.

FOR FURTHER INFORMATION CONTACT: Angela Suber, Small Business Division, telephone: 202-260-7205/facsimile: 202-401-2302/e-mail: suber.angela@epa.gov.

SUPPLEMENTARY INFORMATION: Affected Entities: Entities potentially affected by this action are those which are in one of the following state or territory offices, including the District of Columbia, Puerto Rico, and the Virgin Islands: environmental agency, commerce or economic development department, governor's office, or ombudsman's office.

Title: State Small Business Stationary Source Technical and Environmental Compliance Assistance Program Annual Reporting Form, ICR Number 1748.02, OMB Control Number 2060-0337, expiration date 09/30/01.

Abstract: As part of the Clean Air Act Amendments of 1990, The U.S. Congress included, as part of section 507, the requirement that each state establish a Small Business Stationary Source Technical and Environmental Compliance Assistance Program (SBTCP) to help small businesses comply with the Act. EPA must provide the Congress with periodic reports from the EPA Small Business Ombudsman (SBO) on these programs, including their effectiveness, difficulties encountered, and other relevant information. Each state assistance program will submit requested information to EPA for compilation and summarization.

This collection of information is mandatory pursuant to section 507 (a), (d), and (e) of the Clean Air Act as amended in 1990, Public Law 101-549, November 15, 1990. This Act directs EPA to monitor the SBTCPs and to provide a report to Congress. This responsibility has been delegated to the EPA SBO. Response to the collection is not required to obtain or retain a benefit. Information in the annual Report to Congress is aggregated and is not of a confidential nature. None of the information collected by this action results in or requests sensitive information of any nature from the states or territories.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility.

The EPA SBO shall report the results of the collection to Congress, including an objective summary of conclusions and recommendations relative to funding or other environmental legislative considerations. This information will also be provided to Congressional staffs and committees interested in environmental matters and small business assistance activities at the state and local levels. In addition, this information will be provided to small business trade associations for their further use in promoting the utility and viability of assistance programs to EPA Headquarters and Regional Offices, to other federal agencies such as the Small Business Administration, to all state small business ombudsmen and small business assistance program directors, state environmental commissioners, state Governors, and other interested state environmental officials.

Both state and federal officials have used the information not only to evaluate how well the programs are functioning, but also in planning how to render more effective, less costly and more timely assistance. The constantly evolving nature of these programs means that information of this nature should be made available to decision-makers, whether they be at federal, state, or local levels.

(ii) Evaluate the accuracy of the agency's estimate of the burden of the proposed collection of information, including the validity of the methodology and assumptions used.

We will form a workgroup of approximately 15 to 20 state ombudsmen and/or small business assistance program directors to review and discuss changes to the existing Reporting Form. Previously, we discussed the Reporting Form with the state ombudsmen and/or small business assistance program directors from 6 of the 53 section 507 reporting programs (i.e., the 50 states, the District of Columbia, and the territories of Puerto Rico and the Virgin Islands). A general consensus was taken to establish how long it would take to complete the Reporting Form and who would likely be responsible from each state to complete the task.

From the pretest, the information requested was confirmed to be, for the most part, the normal program activity information the SBTCPs collect on an on-going basis. Where a few state environmental agencies have delegated or contracted management of their technical assistance program, this information is part of the project management responsibilities. The requested reporting information typically would be compiled by either an entry level technical person or maintained by experienced clerical staff.

On an average, the requested information can be compiled readily and maintained by the state within 80 hours (assuming the state organization continuously maintains their records in a reasonably efficient manner) using a mix of management, entry level technical staff, and experienced clerical staff. The 80-hour forecast includes 4 hours for record keeping and 76 hours for reporting the required information.

The respondent information will be compiled electronically and summarized by an outside contractor and clerical staff. EPA will provide oversight of all contractor activities. An estimated 274 EPA hours and 1,564.5 contractor hours will be required to complete the Report to Congress.

(iii) Enhance the quality, utility, and clarity of the information to be collected.

Revisions to the Reporting Form were conducted by representatives from the SBTCPs, who have been reporting on the activities of their programs since 1995 and are familiar with these reporting requirements. They provided extensive review of the proposed Reporting Form and suggested modifications, which then were incorporated into the Reporting Form.

Pretesting of the original collection instrument was accomplished by consolidating all comments received following the states' review of a draft of the Reporting Form and an extensive discussion of the Form at the annual National Small Business Ombudsman and Small Business Assistance Program Conference.

(iv) Minimize the burden of the collection of information on those who are to respond, including through the use of appropriate automated electronic, mechanical, or other technological collection techniques or other forms of information technology, (e.g., permitting electronic submission of responses).

Each year, every state and territory will have access to a password protected on-line Reporting Form. This allows the states and territories to complete their Report and submit it to EPA's Small Business Division/SBO via the internet.

Burden Statement: This annual information collection involves responses from all 50 states, 2 territories (Puerto Rico and the Virgin Islands), and the District of Columbia, for a total of 53 respondents.

The requested information, for the most part, is collected as normal program activity information for the SBTCPs. On an average, the information can be compiled and maintained by the state within 80 hours annually (assuming the state organization continuously maintains their records in a reasonably efficient manner). The 80 hour per state estimate includes 4 hours for recordkeeping and 76 hours for reporting.

For each respondent, the annual cost burden is estimated to be $2,102.76. Total capital and start-up cost component annualized over its expected useful life is $0. Total operations and maintenance is estimated at $0, and the cost for purchase of services is estimated at $0.

Total annual burden for the 53 respondents is estimated at 4,240 hours at a cost of $111,446.28.

Federal burden is estimated to be 274 hours at an annual labor cost of $14,085.32. Total capital and start-up costs are $0. Total operations and maintenance costs are estimated to be $11,506. The cost to purchase services is $75,000.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 20, 2001.
Karen V. Brown,
Small Business Ombudsman/Director, Small Business Division, Office of Business and Community Innovation, Office of Policy, Economics and Innovation.

[FR Doc. 01-7504 Filed 3-26-01; 8:45 am]

BILLING CODE 6560-50-P